DEPARTMENT OF THE INTERIOR

Bureau of Land Management

[NV-040-1920-ET-4662; NVN-77880; 6-08807]

Public Land Order No. 7653; Withdrawal of Public Lands for the Department of Energy To Protect the Caliente Rail Corridor; Nevada

AGENCY: Bureau of Land Management, Interior.

ACTION: Public Land Order.

SUMMARY: This order withdraws approximately 308,600 acres of public lands within the Caliente Rail Corridor, Nevada, from surface entry and the location of new mining claims, subject to valid existing rights, for a period of 10 years to allow the Department of Energy to evaluate the lands for the potential construction, operation, and maintenance of a rail line which would be used to transport spent nuclear fuel and high-level radioactive waste to the proposed Yucca Mountain Repository as part of the Department of Energy's responsibility under the Nuclear Waste Policy Act, as amended, 42 U.S.C. 10101 et seq.

DATES: Effective Date: December 28, 2005.

FOR FURTHER INFORMATION CONTACT: Dennis J. Samuelson, BLM Nevada State Office, P.O. Box 12000, Reno, Nevada 89520, 775-861-6532.

SUPPLEMENTARY INFORMATION: The evaluation of the Caliente Rail Corridor will assist the Department of Energy to determine through the preparation of the Caliente Corridor rail alignment environmental impact statement, conducted pursuant to the National Environmental Policy Act of 1969, as amended, 42 U.S.C. 4321 et seq., whether to construct the rail line in that location. Construction of a rail line within the Caliente Rail Corridor would require that the Department of Energy apply for and receive a right-of-way grant from the Bureau of Land Management in accordance with the Federal Land Policy and Management Act, as amended, 43 U.S.C. Subchapter V.

Order

By virtue of the authority vested in the Secretary of the Interior by section 204 of the Federal Land Policy and Management Act of 1976, 43 U.S.C. 1714 (2000), it is ordered as follows:

1. Subject to valid existing rights, the following described public lands are hereby withdrawn from settlement, sale, location, or entry under the general land laws, including the United States mining laws (30 U.S.C. Ch. 2 (2000)), but not from leasing under the mineral leasing laws, for a period of 10 years, to allow the Department of Energy to evaluate lands within the Caliente Rail Corridor for the potential construction, operation, and maintenance of a rail line which would be used to transport spent nuclear fuel and high-level radioactive waste to the proposed Yucca Mountain Repository as part of the Department of Energy's responsibility under the Nuclear Waste Policy Act, as amended, 42 U.S.C. 10101 et seq.

A corridor 1-mile in width that contains a portion of, or is wholly encompassed within the following sections and/or quarter sections and government lots:

T. 1 N., R. 43 E.,

Sec. 23, S½;

Sec. 24, NE¼ and S½;

Secs. 25 and 26;

Sec. 27, E½;

Secs. 34, 35, and 36.

T. 1 S., R. 43 E.,

Sec. 1, lots 2, 3, and 4, S½NW¼, and SW¼;

Secs. 2 and 3;

Sec. 4, E½;

Sec. 9, E½;

Secs. 10 and 11;

Sec. 12, W½;

Sec. 13;

Sec. 14, E½ and NW¼;

Sec. 15;

Sec. 16, E½;

Sec. 21;

Sec. 22, NE¼ and W½;

Sec. 23, NE¼;

Sec. 24;

Sec. 25, E½;

Sec. 27, W½;

Secs. 28 and 33;

Sec. 34, W½.

T. 2 S., R. 43 E.,

Sec. 3, lots 3 and 4, S½NW¼, and SW¼;

Secs. 4 and 9;

Sec. 10, W½;

Sec. 15, W½;

Sec. 16 (except patented land);

Sec. 20, SE¼ (except patented land);

Sec. 21 (except patented land);

Sec. 22, W½ (except patented land);

Sec. 27, SW¼ (except patented land);

Sec. 28 (except patented land);

Sec. 29, E½ (except patented land);

Sec. 32, NE¼ (except patented land);

Secs. 33 and 34 (except patented land);

Sec. 35, W½ and SE¼ (except patented land);

Sec. 36, SW¼.

T. 3 S., R. 43 E.,

Secs. 1, 2, and 3 (except patented land);

Sec. 4, NE¼ (except patented land);

Sec. 10 (except patented land);

Secs. 11 and 12;

Sec. 13, NE¼ and W½;

Sec. 14;

Sec. 15, E½;

Sec. 22, E½;

Secs. 23 to 26, inclusive;

Sec. 27, E½;

Sec. 34, E½;

Secs. 35 and 36.

T. 4 S., R. 43 E.,

Sec. 1, lots 2, 3, and 4, S½NE¼, S½NW¼, and SW¼;

Sec. 2;

Sec. 3; lots 1 and 2, S½NE¼, and S½;

Secs. 10 and 11;

Sec. 12, W½;

Secs. 14, 15, and 22;

Sec. 23, W½;

Sec. 26, NW¼;

Sec. 27;

Sec. 28, E½;

Sec. 33;

Sec. 34, NE¼ and W½.

T. 5 S., R. 43 E., Unsurveyed

Sec. 3, NW¼;

Secs. 4, 5, 8, 9, 15, and 16;

Sec. 17 (except patented land);

Secs. 21, 22, 27, 28, 33, 34, and 35.

T. 6 S., R. 43 E., Unsurveyed

Secs. 1, 2, 3, Secs. 10 to 15, inclusive, and Sec. 23;

Secs. 24 and 25 (except patented land);

Sec. 26;

Sec. 27, E½;

Sec. 34, E½;

Secs. 35 and 36.

T. 7 S., R. 43 E., Unsurveyed

Secs. 1 and 2;

Sec. 3, E½;

Secs. 11 to 14, inclusive, Secs. 24 and 25.

T. 1 N., R. 44 E.,

Sec. 19, lots 2, 3, and 4, E½SW¼, and E½;

Secs. 20, 21, and 22;

Sec. 23, W½ and SE¼;

Sec. 24, S½;

Secs. 25 and 26;

Sec. 27, N½;

Sec. 28, N½;

Sec. 29, N½;

Sec. 30, lots 1, 2, and 3, NE¼, E½NW¼, and E½SW¼.

T. 7 S., R. 44 E., Partially Surveyed

Secs. 6, 7, 17, 18, 19, and 20;

Sec. 21, NE¼ and N½NW¼;

Sec. 27;

Sec. 29, W½;

Sec. 29, SE¼ (reserved minerals only);

Secs. 30 and 31.

T. 8 S., R. 44 E., Partially Surveyed

Sec. 2, E½;

Sec. 9, N½ (reserved minerals only);

Sec. 9, S½;

Sec. 10, N½ (reserved minerals only);

Sec. 10, S½;

Sec. 11, SW¼;

Sec. 12, E½;

Secs. 13 to 16, inclusive;

Sec. 22, NE¼;

Secs. 23 to 26, inclusive, and Sec. 36.

T. 1 N., R. 45 E.,

Sec. 19, lot 4, E½SW¼, and SE¼;

Sec. 20, S½;

Sec. 25, S½;

Sec. 26, NW¼ and S½;

Secs. 27 to 30, inclusive;

Sec. 32, N½;

Sec. 33, N½;

Sec. 34, N½;

Secs. 35 and 36.

T. 8 S., R. 45 E., Unsurveyed

Sec. 19 and Secs. 28 to 33, inclusive.

T. 9 S., R. 45 E., Unsurveyed

Secs. 2 to 6, inclusive, Secs. 8 to 14, inclusive, and Sec. 24.

T. 1 N., R. 46 E.,

Sec. 25, NE¼ and S½;

Sec. 26, S½;

Sec. 27, S½;

Sec. 28, S½;

Sec. 29, S½;

Sec. 30, lot 4, E½SW¼, and SE¼;

Secs. 31 to 36, inclusive.

T. 9 S., R. 46 E., Unsurveyed

Sec. 7 and Secs. 17 to 21, inclusive;

Sec. 22, SW¼;

Secs. 26 to 29, inclusive, and Secs. 33 to 36, inclusive.

T. 10 S., R. 46 E., Unsurveyed

Secs. 1, 2, 12, and 13.

T. 1 N., R. 47 E.,

Sec. 1, lots 1 to 4, inclusive, S½NE¼, S½NW¼, and SW¼;

Sec. 2;

Sec. 3, SE¼;

Secs. 10 and 11;

Sec. 12, NW¼;

Sec. 14, NW¼;

Sec. 15;

Sec. 16, NE¼ and S½;

Sec. 20, NE¼ and S½;

Sec. 21;

Sec. 22, NE¼ and W½;

Sec. 28, NE¼ and W½;

Secs. 29 and 30;

Sec. 31, lots 1, 2 and 3, NE¼, and E½NW¼;

Sec. 32 NW¼.

T. 2 N., R. 47 E.,

Sec. 25, NE¼ and S½;

Sec. 35, E½;

Sec. 36.

T. 10 S., R. 47 E., Partially Surveyed

Sec. 6, SW¼;

Secs. 7 and 8;

Sec. 9, SW¼;

Sec. 15, NW ¼ and S½;

Secs. 16, 17, and 18;

Sec. 21, N½ and SE½;

Sec. 22, E½NE¼, W½, and SE¼SE¼;

Sec. 23, S½NW¼ and SW¼;

Sec. 26, W½;

Sec. 27; E½ and SW¼SW¼;

Sec. 28, NE¼;

Sec. 34;

Sec. 35, W½ and SE¼.

T. 11 S., R. 47 E.,

Sec. 1, SW¼;

Sec. 2;

Sec. 3, lots 1 and 2, S½NE¼, and SE¼;

Sec. 11;

Sec. 12, W½ and SE¼;

Sec. 13;

Sec. 14, N½ and SE¼;

Sec. 24, N½ and SE¼;

Sec. 25, NE¼.

T. 2 N., R. 48 E.,

Sec. 2, lots 3 and 4, and S½NW¼;

Sec. 3;

Sec. 4, lot 1, S½NE¼, and S½;

Sec. 8, E½;

Sec. 9;

Sec. 10, NE¼ and W½;

Sec. 16, NE¼ and W½;

Sec. 17;

Sec. 18, SE¼;

Sec. 19, lots 3 and 4, E½, and E½SW¼;

Sec. 20;

Sec. 21, NW¼;

Sec. 29, NW¼;

Sec. 30;

Sec. 31, lots 1 to 4, inclusive, NE¼, and E½NW¼.

T. 3 N., R. 48 E.,

Sec. 13, E½ and SW¼;

Sec. 23, E½;

Sec. 24;

Sec. 25, N½ and SW¼;

Sec. 26;

Sec. 27, SE¼;

Secs. 34 and 35;

Sec. 36, NW¼.

T. 11 S., R. 48 E., Unsurveyed

Sec. 7, S½;

Secs. 8 to 11, inclusive, Secs. 14 to 22, inclusive, and Secs. 27 to 34, inclusive.

T. 12 S., R. 48 E., Unsurveyed

Secs. 2 to 6, inclusive;

Sec. 9, NE¼;

Secs. 10 and 11;

Sec. 13, SW¼;

Secs. 14, 15, and Secs. 23 to 26, inclusive;

Sec. 35, E½;

Sec. 36.

T. 13 S., R. 48 E., Unsurveyed

Secs. 9, 10, 14, 15, 16, and Secs. 22 to 26, inclusive;

Sec. 36, NE¼.

T. 3 N., R. 49 E.,

Sec. 2, lots 3 and 4, and S½NW¼;

Secs. 3 and 4;

Sec. 5, SE¼;

Sec. 7, E½SW¼ and SE¼;

Secs. 8 and 9;

Sec. 10, NW¼;

Sec. 16, NW¼;

Sec. 17, N½ and SW¼;

Sec. 18;

Sec. 19, lots 1, 2, and 3, NE¼, and E½NW¼.

T. 4 N., R. 49 E.,

Sec. 24, SE¼;

Sec. 25;

Sec. 26, NE¼ and S½;

Sec. 33, SE¼;

Secs. 34 and 35;

Sec. 36, N½ and SW¼.

T. 12 S., R. 49 E., Unsurveyed

Sec. 31.

T. 13 S., R. 49 E., Unsurveyed

Secs. 13, 14,

Secs. 22 to 27, inclusive, and

Secs. 29 to 36, inclusive.

T. 14 S., R. 49 E., Unsurveyed

Secs. 1 to 5, inclusive,

Secs. 8 to 11, inclusive,

Secs. 15 and 16.

T. 4 N., R. 49½ E., Unsurveyed

Secs. 25, 26, 27, 34, 35, and 36.

T. 1 N., R. 50 E.,

Sec. 1, lots 1 and 2, S½NE¼, and SE¼;

Sec. 12, NE¼ (excluding Kawich Wilderness Study Area).

T. 2 N., R. 50 E.,

Sec. 1;

Sec. 2, lots 1 and 2, S½NE¼, and SE¼;

Sec. 11, E½;

Secs. 12 and 13;

Sec. 14, NE¼;

Secs. 24 and 25;

Sec. 36, E½ and NW¼.

T. 3 N., R. 50 E., Unsurveyed

Secs. 2, 3, 4, 10, 11, and 14;

Sec. 15, E½;

Sec. 22, NE¼;

Secs. 23 to 26, inclusive, Secs. 35 and 36.

T. 3½ N., R. 50 E., Unsurveyed

Secs. 33 and 34.

T. 4 N., R. 50 E., Partially Surveyed

Secs. 30 and 31;

Sec. 32, SW¼.

T. 13 S., R. 50 E., Unsurveyed

Secs. 30 and 31.

T. 1 N., R. 51 E.,

Sec. 6 (excluding South Reveille Wilderness Study Area);

Sec. 7 (excluding Kawich and South Reveille Wilderness Study Areas);

Sec. 17 (excluding South Reveille Wilderness Study Area);

Sec. 18 (excluding Kawich and South Reveille Wilderness Study Areas);

Sec. 19 NE¼ (excluding Kawich Wilderness Study Area);

Sec. 20 and 28 (excluding South Reveille Wilderness Study Area);

Sec. 29, E½ and NW¼;

Sec. 33, E½ and NW¼;

Sec. 34 (excluding South Reveille Wilderness Study Area).

T. 2 N., R. 51 E.,

Sec. 18, lots 3 and 4;

Sec. 19, lots 1 to 4, inclusive, E½NW¼, and E½SW¼;

Sec. 30, lots 1 to 4, inclusive, E½NW¼, E½SW¼, and SE¼;

Sec. 31, (excluding South Reveille Wilderness Study Area).

T. 1 S., R. 51 E., Unsurveyed

Sec. 2, (excluding South Reveille Wilderness Study Area);

Sec. 3;

Secs. 11, 12, and 13 (excluding South Reveille Wilderness Study Area);

Sec. 14, E½;

Sec. 24; Sec. 25, E½;

Sec. 36, E½.

T. 1 S., R. 51½ E., Unsurveyed

Secs. 19, 29, and 30 (excluding South Reveille Wilderness Study Area);

Sec. 31;

Sec. 32 (excluding South Reveille Wilderness Study Area).

T. 2 S., R. 51½ E., Unsurveyed

Secs. 4 and 5 (excluding South Reveille Wilderness Study Area);

Secs. 6, 7, and 8;

Sec. 9, (excluding South Reveille Wilderness Study Area);

secs, 16 and 17;

Sec. 18, NE¼;

Sec. 20, NE¼;

Sec. 21.

T. 2 S., R. 52 E., Unsurveyed

Secs. 7 and 11 (excluding South Reveille Wilderness Study Area);

Secs 12 and 13;

Secs. 14 to 18, inclusive (excluding South Reveille Wilderness Study Area);

Secs. 19, 20, and 21;

Sec. 22, N½;

Sec. 23, N½.

T. 1 S., R. 53 E.,

Sec. 25;

Sec. 35, E½ and SW¼;

Sec. 36.

T. 2 S., R. 53 E.,

Sec. 1, lots 3 and 4, and S½NW¼;

Sec. 2;

Sec. 3, lot 1, S½NE¼, and S½;

Sec. 7, lot 4, E½SW¼, and SE¼;

Sec. 8, S½;

Secs. 9 and 10;

Sec. 11, N½ and SW¼;

Sec. 15, N½;

Sec. 16, N½ and SW¼;

Secs. 17 and 18.

T. 1 S., R. 54 E.,

Sec. 1, S½NE¼ and S½;

Sec. 10, SE¼;

Secs. 11 and 12;

Sec. 13, N½;

Secs. 14 and 15;

Sec. 16, SE¼;

Sec. 19, lots 3 and 4, E½SW¼, and SE¼;

Sec. 20, S½;

Secs. 21 and 22;

Sec. 23, NW¼;

Sec. 28, N½ and SW¼;

Secs. 29 and 30;

Sec. 31, lots 1 and 2, and E½NW¼;

Sec. 32, NW¼.

T. 1 N., R. 55 E.,

Sec. 13, S½;

Sec. 14, SE¼;

Sec. 21, S½;

Sec. 22, NE¼ and S½;

Secs. 23 and 24;

Sec. 25, NW¼;

Sec. 26, N½;

Secs. 27 and 28;

Sec. 29, NE¼ and S½;

Sec. 30, SE¼;

Secs. 31 and 32;

Sec. 33, N½.

T. 1 S., R. 55 E.,

Sec. 5, lot 4 and S½NW¼;

Sec. 6;

Sec. 7, lots 1, 2, and 3, NE¼, and E½NW¼.

T. 1 N., R. 56 E., Partially Surveyed

Sec. 1;

Sec. 2, S½NE¼ and SE¼;

Sec. 9, S½;

Secs. 10 and 11;

Sec. 12, NE¼ and W½;

Sec. 13, NW¼;

Sec. 14, N½;

Secs. 15, 16, and 17;

Sec. 18, lots 3 and 4, E½, and E½SW¼;

Sec. 19, lots 1, 2, 3, NE¼, E½NW¼, NE¼SW¼, and NW¼SE¼;

Sec. 20, N½;

Sec. 21, N½.

T. 2 N., R. 56 E., Partially Surveyed

Sec. 36.

T. 1 N., R. 57 E., Partially Surveyed

Sec. 3, lots 3 and 4, and S½NW¼;

Sec. 4, lots 1 to 4, inclusive, and S½NW¼;

Sec. 5, lots 1 to 4, inclusive, S½NE¼, S½NW¼, and W½SW¼;

Sec. 6.

T. 2 N., R. 57 E.,

Sec. 13;

Sec. 14, SE¼;

Sec. 22, S½;

Secs. 23 to 28, inclusive;

Sec. 29, S½;

Sec. 31, lots 3 and 4, E½, and E½SW¼;

Secs. 32 to 35, inclusive;

Sec. 36, NE¼ and W½.

T. 2 N., R. 58 E.,

Sec. 2, lots 3 and 4, and S½NW¼;

Secs. 3 and 4;

Sec. 5, S½;

Sec. 7, lot 4, E½SW¼, and E½;

Sec. 8;

Sec. 9, NE¼ and W½;

Sec. 10, NW¼;

Sec. 13, SW¼ and S½SE¼;

Sec. 17, NE¼ and W½;

Sec. 18;

Sec. 19, lots 1 and 2, and E½NW¼;

Sec. 20, S½;

Sec. 21, S½;

Sec. 22, NE¼ and S½;

Secs. 23 and 24;

Sec. 25, N½;

Sec. 26, N½;

Secs. 27 to 30, inclusive;

Sec. 31, lots 1 and 2, NE¼, and E½NW¼;

Sec. 32, N½.

T. 3 N., R. 58 E.,

Sec. 24, SE¼;

Sec. 25;

Sec. 26, NE¼ and S½;

Sec. 33, SE¼;

Secs. 34 and 35;

Sec. 36, N½ and SW¼.

T. 2 N., R. 59 E.,

Sec. 2, lots 2, 3, and 4, and S½NW¼;

Sec. 3, lots 1 to 4, inclusive, S½NE¼, and S½NW¼;

Sec. 4;

Sec. 8, NE¼ and S½;

Sec. 9;

Sec. 16, N½ and SW¼;

Secs. 17, 18, and 19;

Sec. 20, NW¼.

T. 3 N., R. 59 E.,

Sec. 12, E½ and SW¼;

Sec. 13;

Sec. 14, SE¼;

Sec. 19, lots 3 and 4, NE¼, E½SW¼, and SE¼;

Sec. 20;

Sec. 21, S½SW¼ and SE¼;

Sec. 22, NE¼ and S½;

Secs. 23 to 28, inclusive;

Sec. 29, N½;

Sec. 30;

Sec. 33, SE¼;

Secs. 34, 35, and 36.

T. 2 N., R. 60 E., Unsurveyed

Sec. 1.

T. 3 N., R. 60 E., Unsurveyed

Secs. 5 to 8, inclusive, Secs. 18 to 22, inclusive, Secs. 25 to 31, inclusive, Secs. 34, 35, and 36.

T. 4 N., R. 60 E.,

Sec. 20, SE¼;

Sec. 21, S½;

Secs. 22, 23, and 24;

Sec. 25, N½;

Sec. 26, N½;

Sec. 27, E½NE¼ and W½;

Secs. 28 and 29;

Sec. 30, SE¼;

Sec. 31, lots 3 and 4, E½, and E½SW¼;

Sec. 32;

Sec. 33, NW¼.

T. 2 N., R. 61 E., Unsurveyed

Sec. 6.

T. 3 N., R. 61 E., Unsurveyed

Secs. 2, 3, 4, and Secs. 9 to 15, inclusive;

Sec. 22, SE¼;

Secs. 23 and 24;

Sec. 25 (excluding Weepah Spring Wilderness Area);

Secs. 26 to 33, inclusive.

Secs. 34, 35, and 36 (excluding Weepah Spring Wilderness Area).

T. 4 N., R. 61 E.,

Sec. 19, lots 2, 3, and 4, E½SW¼, and SE¼;

Sec. 20, SW¼;

Sec. 28, SW¼;

Secs. 29 and 30;

Sec. 31, NE¼;

Secs. 32 and 33;

Sec. 34, S½.

T. 1 N., R. 62 E., Unsurveyed

Sec. 1, E½;

Sec. 12, E½;

Sec. 13.

T. 2 N., R. 62 E., Unsurveyed

Secs. 1 to 4, inclusive;

Sec. 5, N½;

Secs. 10 to 14, inclusive;

Sec. 15, NE¼;

Secs. 24 and 25;

Sec. 36, E½.

T. 3 N., R. 62 E.,

Sec. 18, lots 2, 3, and 4, E½SW¼, and SE¼;

Sec. 19;

Sec. 20, W½ and SE¼;

Sec. 28, W½ and SE¼;

Secs. 29 and 30;

Sec. 31 (excluding Weepah Spring Wilderness Area);

Secs. 32, 33, and 34, inclusive;

Sec. 35, SW¼.

T 1 N., R. 63 E., Unsurveyed

Secs. 6, 7, 8, Secs. 17 to 21, inclusive, and Secs. 26 to 30, inclusive;

Secs. 32 and 35, inclusive.

T. 1 S., R. 63 E., Unsurveyed

Secs. 1, 2, 11, 12, and 13.

T. 2 N., R. 63 E.,

Sec. 7, lots 1 to 4, inclusive, E½NW¼, E½SW¼, and SE¼;

Secs. 18, 19, 30, and 31.

T. 1 S., R. 64 E.,

Sec. 7, lots 2, 3, and 4, E½NW¼, E½SW¼, and SE¼;

Sec. 15, SW¼;

Sec. 16, S½;

Secs. 17 and 18;

Sec. 19, NE¼ and E½NW¼;

Secs. 20 to 23, inclusive;

Sec. 24, NW¼ and S½;

Sec. 25;

Sec. 26, N½;

Sec. 27, N½.

T. 1 S., R. 65 E.,

Sec. 19, lots 3 and 4, E½SW¼, and SE¼;

Sec. 20, SW¼;

Sec. 27, W½ and SE¼;

Secs. 28, 29, and 30;

Sec. 32, N½;

Sec. 33, N½ and SE¼;

Sec. 34;

Sec. 35, NW¼ and S½.

T. 2 S., R. 65 E.,

Sec. 1, S½NW¼ and SW¼;

Sec. 2;

Sec. 3, lots 1, 2, and 3, S½NE¼, S½NW¼, and SE¼;

Secs. 11, 12, and 13;

Sec. 14, NE¼.

T. 2 S., R. 66 E., Unsurveyed

Secs. 1 to 5, inclusive, Secs. 7 to 14, inclusive, Secs. 16, 17, 18, 20, and 24;

Secs. 16 to 18, inclusive.

T. 2 S., R. 67 E.,

Sec. 7, E½SE¼;

Sec. 8, S½;

Sec. 9, SW¼;

Sec. 14, SW¼ and W½SE¼;

Sec. 15, NW¼ and S½;

Secs. 16 to 20, inclusive;

Sec. 21, N½ and SE¼;

Sec. 22;

Sec. 23, NE¼NE¼, W½NE¼, W½, and SE¼;

Sec. 24, NW¼SW¼, S½SW¼, and NW¼SE¼;

Sec. 25 NW¼NW¼;

Sec. 26, NE¼;

Sec. 29, NW¼;

Sec. 30, lots 1 and 2, NE¼, and E½NW¼;

Sec. 35, NW¼NE¼;

Sec. 36, W½NE¼, SE¼NE¼, E½NW¼, E½SW¼, SW¼SW¼, and SE¼.

T. 3 S., R. 67 E.,

Sec. 1;

Secs. 12 and 13;

Sec. 16, E½;

Sec. 20, SE¼;

Sec. 21, W½NE¼, SW¼, NW¼SE¼, and N½SW¼SE¼;

Sec. 23, E½;

Secs. 24 and 25;

Sec. 28, W½NW¼, S½SW¼, and SE¼;

Sec. 29, NE¼, SW¼, N½SE¼, and SE¼SE¼;

Sec. 32, E½NE¼, NW¼, W½SW¼, NE¼SW¼, and E½SE¼;

Sec. 33, lots 2 and 3, and NW¼;

Sec. 35, E½;

Sec. 36.

T. 4 S., R. 67 E.,

Sec. 1;

Sec. 2, lots 1 and 2, S½NE¼, and SE¼;

Sec. 4, lots 3 and 4, S½NW¼, and SW¼;

Sec. 5, lots 1 and 4, SE¼NE¼, SW¼NW¼, NW¼SW¼, NE¼SE¼, and S½SE¼;

Sec. 6, lot 1, S½NE¼, and SE¼;

Sec. 7, lot 5;

Sec. 8, S½SE¼;

Sec. 9, N½NW¼ and SW¼;

Sec. 12, NE¼, N½NW¼, SE¼NW¼, and SE¼.

T. 2 S., R. 68 E.,

Sec. 23, S½;

Secs. 25 to 29, inclusive;

Sec. 30, E½, SE¼NW¼, and E½SW¼;

Sec. 31, NE¼ and E½NW¼;

Sec. 32, N½;

Sec. 33, N½;

Sec. 34, N½;

Sec. 35, N½;

Sec. 36.

T. 3 S., R. 68 E.,

Sec. 1;

Sec. 12, NE¼;

Sec. 19, lots 3 and 4, and E½SW¼;

Sec. 30, lots 1 to 4, inclusive, E½NW¼, and E½SW¼;

Sec. 31, lots 1 and 2, and E½NW¼.

T. 4 S., R. 68 E.,

Sec. 6, lots 5, 6, and 7, SE¼NW¼, E½SW¼, and SE¼;

Sec. 7, lots 2, 3, and 4, NE¼, E½SW¼, and SE¼;

Sec. 8, W½;

Sec. 17, NW¼;

Sec. 18, lot 1, NE¼, E½NW¼.

T. 2 S., R. 69 E.,

Sec. 30, lots 3 and 4, and E½SW¼;

Sec. 31, lots 1 to 4, inclusive, E½NW¼, E½SW¼, and SE¼;

Sec. 32, S½;

Sec. 33, S½.

T. 3 S., R. 69 E.,

Sec. 3, lot 4, S½NW¼, SW¼, and SE¼;

Secs. 4 to 7, inclusive;

Sec. 8, W½;

Sec. 9, E½ and NW¼;

Sec. 10;

Sec. 11, SW¼;

Sec. 13, S½;

Secs. 14 and 15;

Sec. 22, NE¼;

Secs. 23 and 24;

Sec. 25, N½.

T. 3 S., R. 70 E.,

Sec. 8, S½;

Sec. 9, S½;

Sec. 10, S½;

Sec. 11, S½;

Sec. 12, S½;

Secs. 13 to 17, inclusive;

Sec. 18; lots 8 to 12, inclusive, and E½;

Sec. 19; sec. 20, N½;

Sec. 22, NE¼;

Sec. 23, N½;

Sec. 24, NW¼.

2. This order does not authorize the construction, operation, or maintenance of a rail line to transport spent nuclear fuel and high-level radioactive waste to the Yucca Mountain Repository.

3. All public lands included in this withdrawal will be managed in accordance with applicable Bureau of Land Management land use plans, laws, regulations, and policy. The actions of the Department of Energy in evaluation of the lands covered by this withdrawal will meet the Bureau of Land Management's definition of “casual use” as set forth at 43 CFR 2801.5. The withdrawal made by this order does not alter the applicability of those public land laws governing the use of the lands under lease, license, or permit, or governing the disposal of their mineral or vegetative resources other than under the mining laws.

4. This withdrawal will expire 10 years from the effective date of this order unless, as a result of a review conducted before the expiration date pursuant to section 204(f) of the Federal Land Policy and Management Act of 1976, 43 U.S.C. 1714(f) (2000), the Secretary determines that the withdrawal shall be extended.

(Authority: 43 U.S.C. 1714(a); 43 CFR 2310.3-3(b)(1))

Dated: December 21, 2005.
Mark Limbaugh,
Assistant Secretary of the Interior.

[FR Doc. 05-24579 Filed 12-27-05; 8:45 am]

BILLING CODE 4310-HC-P